DEPARTMENT OF LABOR

Mine Safety and Health Administration

Petitions for Modification

The following parties have filed petitions to modify the application of existing safety standards under section 101(c) of the Federal Mine Safety and Health Act of 1977.

1. D & D Anthracite Coal Company

[Docket No. M-2004-020-C]

D & D Anthracite Coal Company, 409 W. Centre Street, Donaldson, Pennsylvania 17981 has filed a petition to modify the application of 30 CFR 75.335 (Construction of seals) to its Primrose Slope Mine (MSHA I.D. No. 36-08341) located in Schuylkill County, Pennsylvania. The petitioner proposes to use wooden materials of moderate size and weight for constructing seals due to the difficulty in accessing previously driven headings and breasts containing inaccessible abandoned workings; to accept a design criteria in the 10 psi range; and to permit the water trap to be installed in the gangway seal and sampling tube in the monkey seal for seals installed in pairs. The petitioner asserts that the proposed alternative method would provide at least the same measure of protection as the existing standard.

2. Spartan Mining Company

[Docket No. M-2004-021-C]

Spartan Mining Company, HC 78 Box 1800, Madison, West Virginia 25130 has filed a petition to modify the application of 30 CFR 75.1002 (Installation of electric equipment and conductors; permissibility) to its Laurel Creek Coalburg Mine (MSHA I.D. No. 46-08387) located in Boone County, West Virginia. The petitioner proposes to transfer high-voltage, 2,400-volt continuous miner equipment from one mine to another mine within the Spartan Mining Company. The petitioner states that all personnel who perform maintenance on the high-voltage continuous miner system will receive training in high-voltage safety, testing, and maintenance procedures; and all personnel who work in proximity of high-voltage equipment or move high-voltage equipment or cable(s) will receive training, before implementation of the proposed alternative method. The petitioner further states, that the high-voltage continuous mining system will not be put into service until after MSHA has inspected the equipment and determined that it is in compliance with the specific terms and conditions listed in this petition for modification. The petitioner asserts that the proposed alternative method would provide at least the same measure of protection as the existing standard.

3. KenAmerican Resources, Inc.

[Docket No. M-2004-022-C]

KenAmerican Resources, Inc., 7590 State Route 181, Central City, Kentucky 42330 has filed a petition to modify the application of 30 CFR 75.1103-4(a) (Automatic fire sensor and warning device systems; installation; minimum requirements) to its Paradise #9 Mine (MSHA I.D. No. 15-17741) located in Muhlenberg County, Kentucky. The petitioner proposes to monitor the belt drive, take-up and tailpiece by a monitoring device located in the belt entry not more than 100-feet downwind of the tailpiece, belt drive and take-up in the same split of air where a belt line discharges onto a belt conveyor tailpiece. The petitioner states that its current Carbon Monoxide Monitoring System plan states that: “where carbon monoxide sensors are used, they will be installed where a belt drive discharges onto a belt conveyor tailpiece, and the tailpiece will be monitored by a monitoring device located in the belt entry not more than 100 feet downwind of that tailpiece. The petitioner asserts that the proposed alternative method would provide at least the same measure of protection as the existing standard.

4. Stillwater Mining

[Docket No. M-2004-005-M]

Stillwater Mining, P.O. Box 1227, Big Timber, Montana 59011 has filed a petition to modify the application of 30 CFR 57.9260 (Supplies, materials, and tools on mantrips) to its East Boulder Mine (MSHA I.D. No. 24-01879) located in Sweet Grass County, Montana. The petitioner request a modification of the existing standard to allow a factory designed, commercially marketed Brookville Mining Equipment Corporation Locomotive/Personnel Carrier, equipped with fifteen-person seating, to pull ore or supplies while transporting passengers on the locomotive. The petitioner asserts that the proposed alternative method would provide at least the same measure of protection as the existing standard.

Request for Comments

Persons interested in these petitions are encouraged to submit comments via e-mail to comments@msha.gov, by fax at (202) 693-9441, or by regular mail to the Office of Standards, Regulations, and Variances, Mine Safety and Health Administration, 1100 Wilson Boulevard, Room 2350, Arlington, Virginia 22209. All comments must be postmarked or received in that office on or before June 28, 2004. Copies of these petitions are available for inspection at that address.

Dated at Arlington, Virginia, this 24th day of May, 2004.
Marvin W. Nichols, Jr.,
Director, Office of Standards, Regulations, and Variances.

[FR Doc. 04-12117 Filed 5-27-04; 8:45 am]

BILLING CODE 4510-43-P